DEPARTMENT OF HEALTH AND HUMAN SERVICES

National Institutes of Health

Center for Scientific Review; Amended Notice of Meeting

Notice is hereby given of a change in the meeting of the Center for Scientific Review Special Emphasis Panel, Translational Research in Neurology and Neuropsychiatry. November 07, 2025, 09:00 a.m. to November 07, 2025, 06:00 p.m., National Institutes of Health, Rockledge II, 6701 Rockledge Drive, Bethesda, MD 20892 which was published in the Federal Register on September 19, 2025, 90 FR 45235, Doc No. 2025-18130.

This meeting is being amended to change the date from November 7, 2025, to November 14, 2025. The meeting is closed to the public.

Dated: September 4, 2025.
Denise M. Santeufemio,
Supervisory Program Analyst, Office of Federal Advisory Committee Policy.

[FR Doc. 2025-18887 Filed 9-26-25; 8:45 am]

BILLING CODE 4140-01-P